ENVIRONMENTAL PROTECTION AGENCY

40 CFR Part 52

[CA 115-CMT; FRL-7635-3]

Approval and Promulgation of Implementation Plans for California—San Joaquin Valley PM-10 Nonattainment Area; Serious Area Plan for Attainment of the 24-Hour and Annual PM-10 Standards; Reopening of Public Comment Period

AGENCY: Environmental Protection Agency (EPA).

ACTION: Proposed rule; extension of public comment period.

SUMMARY: EPA is reopening the comment period for the proposed rule published February 4, 2004 (69 FR 5412), proposing to approve the “2003 PM10 Plan, San Joaquin Valley Plan to Attain Federal Standards for Particulate Matter 10 Microns and Smaller,” submitted on August 19, 2003, and Amendments to that plan submitted on December 30, 2003, as meeting the Clean Air Act requirements applicable to the San Joaquin Valley, California PM-10 (particulate matter of 10 microns or less) nonattainment area. The original comment period closed on March 5, 2004.

DATES: The comment period on the proposed rule is reopened and comments must be received by March 19, 2004.

ADDRESSES: Mail comments to Doris Lo, Planning Office (AIR2), EPA Region 9, 75 Hawthorne Street, San Francisco, California, 94105. Comments may also be submitted electronically to lo.doris@epa.gov or through hand delivery/courier.

FOR FURTHER INFORMATION CONTACT: Doris Lo, Planning Office (AIR2), U.S. EPA, Region 9, 75 Hawthorne Street, San Francisco, California, 94105. (415) 972-3959, email: lo.doris@epa.gov.

Dated: March 4, 2004.
Keith Takata,
Acting Regional Administrator, Region IX.

[FR Doc. 04-5509 Filed 3-10-04; 8:45 am]

BILLING CODE 6560-50-P